DEPARTMENT OF TRANSPORTATION

Federal Highway Administration

Notice to Rescind Notice of Intent To Prepare an Environmental Impact Statement: St. Francois County, MO

AGENCY: Federal Highway Administration (FHWA), DOT, and the Missouri Department of Transportation.

ACTION: Rescind Notice of Intent to prepare an environmental impact statement.

SUMMARY: The FHWA is issuing this notice to advise the public that we are rescinding the Notice Of Intent (NOI) to prepare an environmental impact statement (EIS) for improvements that were proposed to the transportation system in St. Francois County, Missouri.

FOR FURTHER INFORMATION CONTACT: Donald L. Neumann, Programs Engineer, FHWA, Division Office, 209 Adams Street, Jefferson City, MO 65101; Telephone: (573) 634-2393 or Scott Meyer, District Engineer, Missouri Department of Transportation, PO Box 160, Sikeston, Missouri, 63801; Telephone: (573) 472-5333.

SUPPLEMENTARY INFORMATION: The FHWA, in cooperation with the Missouri Department of Transportation (MoDOT), is rescinding the NOI to prepare an EIS for a project that had been proposed to improve the transportation system in St. Francois County, Missouri. The NOI is being rescinded because MoDOT lacks funding to build this project. They do not want to concentrate their efforts on completing an EIS for a project which may not be built for 20 years, at which time the EIS would need to be reevaluated.

(Catalog of Federal Domestic Assistance Program Number 20.205, Highway Planning and Construction. The regulations implementing Executive Order 12372 regarding intergovernmental consultation on Federal programs and activities apply to this program)

Issued on: September 12, 2001.
Donald L. Neumann,
Programs Engineer, Jefferson City.

[FR Doc. 01-23563 Filed 9-19-01; 8:45 am]

BILLING CODE 4910-22-M